DEPARTMENT OF HEALTH AND HUMAN SERVICES

Health Resources and Services Administration

Agency Information Collection Activities: Submission to OMB for Review and Approval; Public Comment Request; Nurse Faculty Loan Program Forms OMB No. 0915-0314—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than March 2, 2026.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: Nurse Faculty Loan Program Forms, OMB No. 0915-0314—Revision.

Abstract: This clearance request seeks approval for the Nurse Faculty Loan Program (NFLP) Forms. The forms included are the NFLP—Program Specific Data Form, the NFLP—Annual Performance Report (APR) Financial Data Form, and the NFLP Due Diligence Form. They are currently approved under OMB Approval No. 0915-0314, with the expiration date of August 31, 2026. For greater clarity and consistency, the title of this ICR will be changed from the “Nurse Faculty Loan Program—Program Specific Data Form, Annual Performance Report Financial Data Form, and NFLP Due Diligence Form” to the “Nurse Faculty Loan Program Forms.” In addition, the ICR will update the NFLP—Program Specific Data Form to reflect that the National League for Nursing Commission for Nursing Education Accreditation is now an accrediting body for graduate nursing programs.

A 60-day notice published in the Federal Register on September 12, 2025, vol. 90, No. 175; pp. 44199-44200. There were no public comments.

Need and Proposed Use of the Information: Section 846A of the Public Health Service Act provides the Secretary of HHS with the authority to provide grants to accredited schools of nursing for the establishment and operation of student loan funds to increase the number of qualified nurse faculty. HRSA makes awards to accredited schools of nursing, and the schools provide loans to students enrolled in advanced education nursing degree programs who are committed to becoming nurse faculty. Following graduation from the NFLP grant recipient school, NFLP borrowers may receive up to 85 percent of loan cancellation over a 4-year period in exchange for service as full-time faculty at a school of nursing. The NFLP grant recipient school collects any portion of the loan that is not cancelled and any loans that go into repayment and deposits these monies into the NFLP loan fund to make additional NFLP loans.

The NFLP—Program Specific Data Form is a required electronic attachment within the NFLP application materials. The data provided in the form is an essential component of the formula-based criteria used to determine the amount awarded to the applicant schools. The form collects application-related data from applicants such as the amount requested, number of students to be funded, tuition information, and projected unused loan fund balance. This data collection assists HRSA in streamlining the application submission process, enabling an efficient award determination process, and facilitating reporting on the use of funds and analysis of program outcomes. There are no changes to this form.

The NFLP—APR Financial Data Form is an online form that collects outcome and financial data to capture the NFLP loan fund account activity related to financial receivables, disbursements, and borrower account data related to employment status, loan cancellation, and loan repayment and collections. NFLP grant recipient schools will provide HHS with current and cumulative information on (1) NFLP loan funds received, (2) number and amount of NFLP loans made, (3) number and amount of loans cancelled, (4) number and amount of loans in repayment, (5) loan default rate percent, (6) number of NFLP graduates employed as nurse faculty, and (7) other related loan fund costs and activities. The NFLP—APR Financial Data Form is used to monitor grantee performance by collecting information related to the NFLP loan fund operations and financial activities for a specified reporting period (July 1 through June 30 of the academic year). NFLP grant recipient schools are required to complete and submit the NFLP—APR Financial Data Form annually. The data provided in the form is essential for HRSA to effectively monitor the school's use of NFLP funds in accordance with the statute and program guidelines. There are no changes to this form.

The NFLP Due Diligence Form is a required form that is completed and submitted electronically by NFLP grant recipient schools. This form indicates that due diligence has been exercised in the cancellation of any remaining loan funds for NFLP borrowers due to permanent/total disability, death, and uncollectible/bad debt write-offs. The data collected on the due diligence form will include the student borrower's unique ID number, reason for cancellation, the amount of principal loaned, the total amount of principal loan funds and corresponding interest canceled, and the outstanding amount of principal/interest that would be canceled because of death or permanent disability or written-off as uncollectible/bad debt. The NFLP Due Diligence Form is essential for monitoring performance measure outcomes and to verify and validate accuracy of information submitted on the NFLP Annual Performance Reports. There are no changes to this form.

Likely Respondents: NFLP grant recipient schools and applicants to the NFLP program.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents * | Number of responses per respondent | Total responses | Average burden per response (in hours) | Total burden hours
Nurse Faculty Loan Program—Program Specific Data Form | 90 | 1 | 90 | 8 | 720
Nurse Faculty Loan Program—Annual Performance Report Financial Data Form | 207 | 1 | 207 | 6 | 1,242
Nurse Faculty Loan Program—Due Diligence Form | 20 | 1 | 20 | 1 | 20
Total | 317 |  | 317 |  | 1,982
* The number of respondents is added up because there are three separate groups that complete forms at different points within the grant period.

Maria G. Button,
Director, Executive Secretariat.

[FR Doc. 2026-01754 Filed 1-28-26; 8:45 am]

BILLING CODE 4165-15-P